DEPARTMENT OF TRANSPORTATION

Office of the Secretary; Aviation Proceedings, Agreements Filed During the Week Ending March 15, 2002

The following Agreements were filed with the Department of Transportation under the provisions of 49 U.S.C. 412 and 414. Answers may be filed within 21 days after the filing of the application.

Docket Number: OST-2002-11825.

Date Filed: March 12, 2002.

Parties: Members of the International Air Transport Association.

Subject: PTC12 NMS-AFR 0135 dated 15 March 2002, Mail Vote 210—TC12 Mid Atlantic-Africa, Special Passenger Amending Resolution 010j r1-r6. PTC12 NMS-AFR 0136 dated 15 March 2002, Mail Vote 211—TC12 Mid Atlantic-Africa, Special Passenger Amending Resolution 010k r7-r12. Intended effective date: 15 April 2002, 30 April 2002.

Docket Number: OST-2002-11849.

Date Filed: March 14, 2002.

Parties: Members of the International Air Transport Association.

Subject: PTC12 MEX-EUR 0047 dated 19 February 2002, TC12 Mexico-Europe Resolutions r1-r20, Minutes—PTC12 MEX-EUR 0048, dated 15 March 2002. Tables—PTC12 MEX-EUR Fares 0019, dated 22 February 2002. Intended effective date: 1 May 2002.

Dorothy Y. Beard,
Federal Register Liaison.

[FR Doc. 02-7716 Filed 3-28-02; 8:45 am]

BILLING CODE 4910-62-P